DEPARTMENT OF THE INTERIOR

National Park Service

[NPS-AKRO-CAKR-KOVA-DENA-18653; PPAKAKROR4; PPMPRLE1Y.LS0000]

Notice of Open Public Meetings and Teleconferences for the National Park Service Alaska Region Subsistence Resource Commission Program

AGENCY: National Park Service, Interior.

ACTION: Meeting Notices.

SUMMARY: As required by the Federal Advisory Committee Act (16 U.S.C. Appendix 1-16), the National Park Service (NPS) is hereby giving notice that the Cape Krusenstern National Monument Subsistence Resource Commission (SRC), the Kobuk Valley National Park SRC, and the Denali National Park SRC will hold public meetings to develop and continue work on NPS subsistence program recommendations, and other related regulatory proposals and resource management issues. The NPS SRC program is authorized by Section 808 of the Alaska National Interest Lands Conservation Act, (16 U.S.C. 3118), title VIII.

Cape Krusenstern National Monument SRC Meeting/Teleconfernce Date and Location: The Cape Krusenstern National Monument SRC will meet from 9:00 a.m. to 5:00 p.m. or until business is completed on Wednesday, July 22, 2015, at the Northwest Arctic Heritage Center in Kotzebue, AK. Teleconference participants must call the Cape Krusenstern National Monument office at (907) 442-3890 by Monday, July 20, 2015, prior to the meeting to receive teleconference passcode information. The alternate meeting date is Wednesday, July 29, 2015, in case of postponement due to weather, lack of commission quorum or other unforeseen circumstances. For more detailed information regarding this meeting or if you are interested in applying for SRC membership contact Ken Adkisson, Subsistence Manager, at (907) 443-6104, or via email at ken_adkisson@nps.gov or Clarence Summers, Subsistence Manager, at (907) 644-3603 or via email at clarence_summers@nps.gov.

Kobuk Valley National Park SRC Meeting/Teleconference Date and Location: The Kobuk Valley National Park SRC will meet from 9:00 a.m. to 5:00 p.m. or until business is completed on Thursday, July 23, 2015, at the Northwest Arctic Heritage Center in Kotzebue, AK. Teleconference participants must call the Cape Krusenstern National Monument office at (907) 442-3890 by Monday, July 20, 2015, prior to the meeting to receive teleconference passcode information. The alternate meeting date is Thursday, July 30, 2015, in case of postponement due to weather, lack of commission quorum or other unforeseen circumstances.

For more detailed information regarding this meeting or if you are interested in applying for SRC membership contact Ken Adkisson, Subsistence Manager, at (907) 443-6104, or via email at ken_adkisson@nps.gov or Designated Federal Official Frank Hays, Superintendent, at (907) 442-3890, or via email at frank_hays@nps.gov, or Clarence Summers, Subsistence Manager, at (907) 644-3603 or via email at clarence_summers@nps.gov.

Denali National Park SRC Meeting Date and Location: The Denali National Park SRC will meet from 10:00 a.m. to 3:00 p.m. or until business is completed on Wednesday, August 5, 2015, at the Nikolai School in Nikolai, AK. For more detailed information regarding this meeting, or if you are interested in applying for SRC membership, contact Amy Craver, Subsistence Manger at (907) 683-9544 or by email at amy_craver@nps.gov or Clarence Summers, Subsistence Manager, at (907) 644-3603 or via email at clarence_summers@nps.gov.

Proposed Meeting Agenda: The agenda may change to accommodate SRC business. The proposed meeting agenda for each meeting includes the following:

1. Call to Order—Confirm Quorum

2. Welcome and Introductions

3. Review and Adoption of Agenda

4. Approval of Minutes

5. Superintendent's Welcome and Review of the Commission Purpose

6. Commission Membership Status

7. SRC Chair and Members' Reports

8. Superintendent's Report—NPS

9. Old Business

10. New Business

11. Federal Subsistence Board Update

12. Alaska Boards of Fish and Game Update

13. National Park Service Reports

a. Ranger Update

b. Resource Management Update

c. Subsistence Manager's Report

14. Public and Other Agency Comments

15. Work Session

16. Set Tentative Date and Location for Next SRC Meeting

17. Adjourn Meeting

SRC meeting locations and dates may change based on inclement weather or exceptional circumstances. If the meeting date and location are changed, the Superintendent will issue a press release and use local newspapers and radio stations to announce the rescheduled meeting.

SUPPLEMENTARY INFORMATION: SRC meetings are open to the public and will have time allocated for public testimony. The public is welcome to present written or oral comments to the SRC. SRC meetings will be recorded and meeting minutes will be available upon request from the Superintendent for public inspection approximately six weeks after the meeting. Before including your address, telephone number, email address, or other personal identifying information in your comment, you should be aware that your entire comment—including your personal identifying information—may be made publicly available at any time. While you may ask us in your comment to withhold your personal identifying information from public review, we cannot guarantee that we will be able to do so.

Dated: June 30, 2015.
Alma Ripps,
Chief, Office of Policy.

[FR Doc. 2015-16487 Filed 7-2-15; 8:45 am]

BILLING CODE 4310-EE-P